DEPARTMENT OF AGRICULTURE

U.S. Codex Office

Codex Alimentarius Commission: Meeting of the Codex Committee on Food Import and Export Inspection and Certification Systems

AGENCY: U.S. Codex Office, USDA.

ACTION: Notice of public meeting and request for comments.

SUMMARY: The U.S. Codex Office is sponsoring a public meeting on August 21, 2024. The objective of the public meeting is to provide information and receive public comments on agenda items and draft U.S. positions to be discussed at the 27th Session of the Codex Committee on Food Import and Export Inspection and Certification Systems (CCFICS) of the Codex Alimentarius Commission (CAC). The 27th Session of the CCFICS will be held in Cairns, Australia, from September 16-20, 2024. The U.S. Manager for Codex Alimentarius and the Under Secretary for Trade and Foreign Agricultural Affairs recognize the importance of providing interested parties the opportunity to obtain background information on the 27th Session of the CCFICS and to address items on the agenda.

DATES: The public meeting is scheduled for August 21, 2024, from 1:00-4:00 p.m. ET.

ADDRESSES: The public meeting will take place via Video Teleconference only. Documents related to the 27th Session of the CCFICS will be accessible via the internet at the following address: https://www.fao.org/fao-who-codexalimentarius/meetings/detail/en/?meeting=CCFICS&session=27.

Dr. Michelle Catlin, U.S. Delegate to the 27th Session of the CCFICS, invites interested U.S. parties to submit their comments electronically to the following email address: michelle.catlin@usda.gov.

Registration: Attendees may register to attend the public meeting at the following link: https://www.zoomgov.com/meeting/register/vJItc-6rpzIuGPEVvN9FhCzAF2fXU6TBzKA. After registering, you will receive a confirmation email containing information about joining the meeting.

For further information about the 27th Session of the CCFICS, contact U.S. Delegate, Dr. Michelle Catlin, Chief Scientist, Food Safety and Inspection Service, United States Department of Agriculture, by email at: michelle.catlin@usda.gov. For additional information regarding the public meeting, contact the U.S. Codex Office by email at: uscodex@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Food Import and Export Inspection and Certification Systems (CCFICS) are:

(a) to develop principles and guidelines for food import and export inspection and certification systems with a view to harmonizing methods and procedures which protect the health of consumers, ensure fair trading practices and facilitate international trade in foodstuffs;

(b) to develop principles and guidelines for the application of measures by the competent authorities of exporting and importing countries to provide assurance where necessary that foodstuffs comply with requirements, especially statutory health requirements;

(c) to develop guidelines for the utilization, as and when appropriate, of quality assurance systems to ensure that foodstuffs conform with requirements and to promote the recognition of these systems in facilitating trade in food products under bilateral/multilateral arrangements by countries;

(d) to develop guidelines and criteria with respect to format, declarations and language of such official certificates as countries may require with a view towards international harmonization;

(e) to make recommendations for information exchange in relation to food import/export control;

(f) to consult as necessary with other international groups working on matters related to food inspection and certification systems; and,

(g) to consider other matters assigned to it by the Commission in relation to food inspection and certification systems.

Quality assurance means all those planned and systematic actions necessary to provide adequate confidence that a product or service will satisfy given requirements for quality (ISO-8402 Quality—Vocabulary).

The CCFICS is hosted by Australia. The United States attends the CCFICS as a member country of Codex.

Issues To Be Discussed at the Public Meeting

The following items from the Provisional Agenda for the 27th Session of the CCFICS will be discussed during the public meeting:

• Matters arising from the Codex Alimentarius Commission and its subsidiary bodies

• Information on activities of the FAO and WHO and other international organizations relevant to the work of CCFICS

• Draft Consolidated Codex Guidelines related to Equivalence

• Draft Guidelines on the Prevention and Control of Food Fraud

• Draft revision and updating of the Principles for Traceability/Product Tracing as a Tool Within a Food Inspection and Certification System (CXG 60-2006)

• Discussion paper on guidance on appeals mechanism in the context of rejection of imported food

• Discussion paper on the standardization of sanitary requirements

• Review and update of Appendix A—the list of emerging global issues

• Other business

Public Meeting

At the August 21, 2024, public meeting, draft U.S. positions on the agenda items will be described and discussed, and attendees will have the opportunity to pose questions and offer comments. Written comments may be offered at the meeting or sent to Dr. Michelle Catlin, U.S. Delegate to the 27th Session of the CCFICS, at michelle.catlin@usda.gov. Written comments should state that they relate to activities of the 27th Session of the CCFICS.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on July 3, 2024.
Julie A. Chao,
Deputy U.S. Manager for Codex Alimentarius.

[FR Doc. 2024-15096 Filed 7-9-24; 8:45 am]

BILLING CODE 3420-3F-P